DEPARTMENT OF LABOR

Mine Safety and Health Administration

Petitions for Modification

The following parties have filed petitions to modify the application of existing safety standards under section 101(c) of the Federal Mine Safety and Health Act of 1977.

1. Mississippi Lime Company

[Docket No. M-2004-008-M]

Mississippi Lime Company, 16147 Highway 61, Ste. Genevieve, Missouri 63670 has filed a petition to modify the application of 30 CFR 56.15005 (Safety belts and lines) to its Peerless Mine and Mill (MSHA I.D. No. 23-00542) located in Ste. Genevieve County, Missouri. The petitioner proposes to facilitate non-entry full body harness and lifeline whenever an entrant enters a tank, bin or other dangerous areas, to facilitate non-entry rescue, unless the retrieval equipment would increase the overall risk of entry or not contribute to the rescue of the entrant. When a lifeline is used, the petitioner proposes to have a second person attending the lifeline. The petitioner asserts that the proposed alternative method would provide at least the same measure of protection as the existing standard.

2. American Engineering & Construction Company

[Docket No. M-2004-035-C]

American Engineering & Construction Company, 735 St. Rt. 857, Clay, Kentucky 42404 has filed a petition to modify the application of 30 CFR 75.364(b)(4) (Weekly examination) to its Baker Mine (MSHA I.D. No. 15-14992) located in Webster County, Kentucky. Due to deteriorating roof conditions in the 13 seam seals at the 2nd and 3rd North Main Entries No. 1 Set of Seals, (affected Seals are No.'s 9, 10, 11, 12, and 13), the petitioner proposes to use an alternative method for examinations of the seals in the return air courses of the affected areas. The petitioner proposes to conduct examinations at evaluation points No. 1 and No. 2, and monitor upstream (with respect to air flow) and downstream of the seal locations that cannot be examined. The petitioner states that monitoring at these evaluation points will evaluate the atmosphere going into and coming out from the seals. The petitioner asserts that application of the existing standard will result in a diminution of safety to the miners and that the proposed alternative method would provide at least the same measure of protection as the existing standard.

3. Warrior Coal, LLC

[Docket No. M-2004-036-C]

Warrior Coal, LLC, 57 J.E. Ellis Road, Madisonville, Kentucky 42431 has filed a petition to modify the application of 30 CFR 75.1101-1(b) (Deluge-type water spray) to its Cardinal Mine (MSHA I.D. No. 15-17216) located in Hopkins County, Kentucky. The petitioner requests a modification of the existing standard to permit an alternative method of compliance for the use of blow-off dust covers for deluge-type water spray nozzles. The petitioner proposes to train a person on testing procedures specific to the deluge-type water spray fire suppression system that will be utilized once a week at each belt drive; conduct a visual examination of each deluge-type water spray fire suppression system; conduct a functional test of the deluge-type water spray fire suppression system by actuating the system and observing its performance; and record results of the examination and test in a book maintained on the surface and made available to interested parties. The petitioner states that any malfunction or clogged nozzle detected as a result of the weekly examination or test will be corrected immediately, and the procedure used to perform the functional test will be posted at or near each belt drive that utilizes a deluge-type water spray fire suppression system. The petitioner asserts that the proposed alternative method would provide at least the same measure of protection as the existing standard.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before September 22, 2004. Copies of these petitions are available for inspection at that address.

Dated at Arlington, Virginia this 17th day of August 2004.
Marvin W. Nichols, Jr.,
Director, Office of Standards, Regulations, and Variances.

[FR Doc. 04-19191 Filed 8-20-04; 8:45 am]

BILLING CODE 4510-43-M